DEPARTMENT OF STATE

[Public Notice 5359]

30-Day Notice of Proposed Information Collection: Form DS-6001, Request for an Advisory Opinion, OMB Control Number 1405-XXXX; Form DS-6002, Prior Notification, OMB Control Number 1405-XXXX; Form DS-6003, Request for Reconsideration of Unclassified Proviso(s), OMB Control Number 1405-XXXX; Form DS-6004, Request To Change End User, End Use and/or Destination of Hardware, OMB Control Number 1405-XXXX

ACTION: Notice of request for public comment and submission to OMB of proposed collection of information.

SUMMARY: The Department of State has submitted the following information collection requests to the Office of Management and Budget (OMB) for approval in accordance with the Paperwork Reduction Act of 1995.

• Title of Information Collection: Request for an Advisory Opinion.

• OMB Control Number: None.

• Type of Request: New Collection.

• Originating Office: Bureau of Political-Military Affairs, Directorate of Defense Trade Controls, (PM/DDTC).

• Form Number: DS-6001.

• Respondents: Business organizations.

• Estimated Number of Respondents: 250.

• Estimated Number of Responses: 250.

• Average Hours Per Response: 1 hour.

• Total Estimated Burden: 250 hours.

• Frequency: On Occasion.

• Obligation to Respond: Mandatory.

• Title of Information Collection: Prior Notification.

• OMB Control Number: None.

• Type of Request: New Collection.

• Originating Office: Bureau of Political-Military Affairs, Directorate of Defense Trade Controls, (PM/DDTC).

• Form Number: DS-6002.

• Respondents: Business organizations.

• Estimated Number of Respondents: 15.

• Estimated Number of Responses: 15.

• Average Hours Per Response: 1 hour.

• Total Estimated Burden: 15 hours.

• Frequency: On Occasion.

• Obligation to Respond: Mandatory.

• Title of Information Collection: Request for Reconsideration of Unclassified Proviso(s).

• OMB Control Number: None.

• Type of Request: New Collection.

• Originating Office: Bureau of Political-Military Affairs, Directorate of Defense Trade Controls, (PM/DDTC).

• Form Number: DS-6003.

• Respondents: Business organizations.

• Estimated Number of Respondents: 100.

• Estimated Number of Responses: 200 (respondents may submit more than one response).

• Average Hours Per Response: 1 hour.

• Total Estimated Burden: 200 hours.

• Frequency: On Occasion.

• Obligation to Respond: Mandatory.

• Title of Information Collection: Request to Change End User, End Use and/or Destination of Hardware.

• OMB Control Number: None.

• Type of Request: New Collection.

• Originating Office: Bureau of Political-Military Affairs, Directorate of Defense Trade Controls, (PM/DDTC).

• Form Number: DS-6004.

• Respondents: Business organizations.

• Estimated Number of Respondents: 300.

• Estimated Number of Responses: 650 (respondents may submit more than one response).

• Average Hours Per Response: 1 hour.

• Total Estimated Burden: 650 hours.

• Frequency: On Occasion.

• Obligation to Respond: Mandatory.

DATES: Submit comments to the Office of Management and Budget (OMB) for up to 30 days from April 3, 2006.

ADDRESSES: Direct comments and questions to Alexander Hunt, the Department of State Desk Officer in the Office of Information and Regulatory Affairs at the Office of Management and Budget (OMB), who may be reached at (202) 395-7860. You may submit comments by any of the following methods:

• E-mail: ahunt@omb.eop.gov. You must include the DS form number, information collection title, and OMB control number in the subject line of your message.

• Mail (paper, disk, or CD-ROM submissions): Office of Information and Regulatory Affairs, Office of Management and Budget, 725 17th Street, NW., Washington, DC 20530.

• Fax: 202-395-6974.

FOR FURTHER INFORMATION CONTACT: You may obtain copies of the proposed information collection and supporting documents from Michael T. Dixon, Director, Office of Defense Trade Controls Management, Bureau of Political-Military Affairs, SA-1, Room H1200, 2401 E Street, NW., Washington, DC 20037, who may be reached via e-mail at DixonMT@state.gov.

SUPPLEMENTARY INFORMATION: We are soliciting public comments to permit the Department to:

• Evaluate whether the proposed collection of information is necessary to properly perform our functions.

• Evaluate the accuracy of our estimate of the burden of the proposed collection, including the validity of the methodology and assumptions used.

• Enhance the quality, utility, and clarity of the information to be collected.

• Minimize the reporting burden on those who are to respond.

Abstract of proposed collection: Form DS-6001 is used when a person, registered with the Directorate of Defense Trade Controls, desires an opinion as to whether DDTC would likely grant a license or other approval for an export transaction involving defense articles. Also, the DS-6001 may be used to satisfy the prior approval requirements of 22 CFR 126.8 for a proposal to sell or manufacture abroad significant military equipment to foreign persons. Prior notification in accordance with 22 CFR 126.8(a)(2) regarding the sale of significant military equipment is submitted using form DS-6002. In order to request a change in the proviso(s) placed on an export license, the DS-6003 is submitted. Form DS-6004 is used to request approval prior to any sale, transfer, transshipment or disposal of classified or unclassified defense articles, whether permanent or temporary to any end-user, end-use or destination other than as stated on the license or other approval or on a Shipper's Export Declaration.

Methodology: These forms/information collections may be sent to the Directorate of Defense Trade Controls via the following methods: Mail, personal delivery, and/or electronically.

Dated: February 27, 2006.
Gregory M. Suchan,
Deputy Assistant Secretary for Defense Trade Controls, Bureau of Political-Military Affairs, Department of State.

[FR Doc. E6-4779 Filed 3-31-06; 8:45 am]

BILLING CODE 4710-25-P